DEPARTMENT OF TRANSPORTATION

Federal Aviation Administration

Sixty Eighth RTCA SC-186 Plenary Session

AGENCY: Federal Aviation Administration (FAA), U.S. Department of Transportation (DOT).

ACTION: Sixty Eighth RTCA SC-186 Plenary Session.

SUMMARY: The FAA is issuing this notice to advise the public of a meeting of Sixty Eighth RTCA SC-186 Plenary Session.

DATES: The meeting will be held March 23, 2018 9:00 a.m.-4:30 p.m.

ADDRESSES: The meeting will be held at: RTCA Headquarters, 1150 18th Street NW, Suite 910, Washington, DC 20036.

FOR FURTHER INFORMATION CONTACT: Al Secen at asecen@rtca.org or 202-330-0647, or The RTCA Secretariat, 1150 18th Street NW, Suite 910, Washington, DC 20036, or by telephone at (202) 833-9339, fax at (202) 833-9434, or website at http://www.rtca.org.

SUPPLEMENTARY INFORMATION: Pursuant to section 10(a)(2) of the Federal Advisory Committee Act (Pub. L. 92-463, 5 U.S.C., App.), notice is hereby given for a meeting of the Sixty Eighth RTCA SC-186 Plenary Session. The agenda will include the following:

1. Welcome/Chairman's Introductory Remarks/Introductions

2. Review of Meeting Agenda

3. Review/Approval of the Sixty-Seventh Meeting Summary

4. FAA Surveillance & Broadcast Services (SBS) Program—Status

5. WG-3—Extended Squitter MOPS/SC-209 ATC XPDR MOPS—Status

6. WG-4—Advanced Interval Management (A-IM)—Stauts

7. Other Business

A. Aireon Activities Update

B. Terms of Reference Considerations

C. Date, Place, and Time of Next Meeting

8. New Business

9. Review Action Items

10. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 5, 2018.
John Raper,
Manager, Partnership Contracts Branch, ANG-A17 (Acting), NextGen, Procurement Services Division, Federal Aviation Administration.

[FR Doc. 2018-00300 Filed 1-10-18; 8:45 am]

BILLING CODE 4910-13-P